DEPARTMENT OF TRANSPORTATION

Federal Aviation Administration

14 CFR Part 39

[Docket No. FAA-2005-22523; Directorate Identifier 2005-NM-058-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 767 airplanes. That NPRM proposed to require drilling a drain hole in the flanged tubes for certain elevator control cable aft pressure seals; doing repetitive inspections for dirt, loose particles, or blockage of the flanged tube and drain hole for the pressure seals, and corrective action if necessary; replacing the aft air-intake duct assembly with a new or modified assembly and installing a dripshield; and installing gutters on the horizontal stabilizer center section and modifying the side brace fittings. That NPRM was prompted by reports of stiff operation of the elevator pitch control system and jammed elevator controls. This action revises that NPRM by proposing to require replacement of pressure seal assemblies, rather than the proposed drilling of drain holes; revising a certain compliance time and inspection type; adding certain optional actions; and revising the applicability. We are proposing this supplemental NPRM to prevent moisture from collecting and freezing on the elevator control system components, which could limit the ability of the flightcrew to make elevator control inputs and result in reduced controllability of the airplane. Since these actions impose an additional burden over that proposed in the previous NPRM, we are reopening the comment period to allow the public the chance to comment on these proposed changes.

DATES: We must receive comments on this supplemental NPRM by September 24, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P. O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Kelly McGuckin, Aerospace Engineer, Systems and Equipment Branch, ANM-130S, FAA, Seattle Aircraft Certification Office, 1601 Lind Avenue SW., Renton, WA 98057-3356; phone: (425) 917-6490; fax: (425) 917-6590; email: Kelly.McGuckin@faa.gov.

SUPPLEMENTARY INFORMATION:

Comments Invited

We invite you to send any written relevant data, views, or arguments about this proposed AD. Send your comments to an address listed under the ADDRESSES section. Include “Docket No. FAA-2005-22523; Directorate Identifier 2005-NM-058-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain The Boeing Company Model 767-200, -300, -300F, and -400ER series airplanes. That NPRM published in the Federal Register on September 27, 2005 (70 FR 56386). That NPRM proposed to require drilling a drain hole in the flanged tubes for the E1A and E1B elevator control cable aft pressure seals; doing repetitive inspections for dirt, loose particles, or blockage of the flanged tube and drain hole for the E1A and E1B elevator control cable aft pressure seals and corrective action if necessary; replacing the aft air-intake duct assembly with a new or modified aft air-intake duct assembly and installing a dripshield; and installing gutters on the horizontal stabilizer center section and modifying the side brace fittings.

Actions Since Previous NPRM (70 FR 56386, September 27, 2005) Was Issued

Since we issued the previous NPRM (70 FR 56386, September 27, 2005), we have received reports of elevator control restrictions from operators who had implemented the actions specified in the previous NPRM.

Since we issued the previous NPRM (70 FR 56386, September 27, 2005), we have also received revised and new service information.

We have reviewed Boeing Service Bulletin 767-27-0204, Revision 2, dated August 16, 2011 (for Model 767-200, -300, and -300F series airplanes); and Boeing Service Bulletin 767-27-0205, Revision 2, dated August 30, 2011 (for Model 767-400ER series airplanes). We referred to Boeing Service Bulletin 767-27-0204, dated January 27, 2005; and Boeing Service Bulletin 767-27-0205, dated January 27, 2005; as the appropriate sources of service information for accomplishing the actions proposed in paragraph (g) of the previous NPRM (70 FR 56386, September 27, 2005). Revision 2 of this service information revises the type of inspection from a detailed inspection to a general visual inspection, and also revises the compliance times by basing one time on the accomplishment of Boeing Service Bulletin 767-27A0219.

Boeing Service Bulletin 767-27-0204, Revision 2, dated August 16, 2011, revises the effectivity to specify line numbers 225, 226, 228 through 717, and 719 through 971, except airborne warning and control system (AWACS) airplanes (previous effectivity was line numbers 225, 226 and 228 through 9999). Boeing Service Bulletin 767-27-0205, Revision 2, dated August 30, 2011, also revises the effectivity to specify line numbers 758 through 965 (Revision 2 of this service information removes airplanes—the earlier revisions specified “all” airplanes). We have revised paragraphs (c) and (g) of this supplemental NPRM to refer to this revised service information. We have also added new paragraph (m)(1) to give credit for actions done before the effective date of the AD using earlier versions of Boeing Service Bulletin 767-27-0204, Revision 2, dated August 16, 2011; and Boeing Service Bulletin 767-27-0205, Revision 2, dated August 30, 2011.

We have also reviewed Boeing Service Bulletin 767-27A0224, Revision 1, dated December 16, 2011, which describes procedures for replacing the two existing pressure seal assemblies for the left elevator control cables at the aft pressure bulkhead. The replacement also includes closing existing drain holes for airplanes that have drain holes in the seal block tubes. Boeing Service Bulletin 767-27A0224, Revision 1, dated December 16, 2011, specifies that, for certain airplanes, the replacement eliminates the need for the inspections specified in Boeing Service Bulletin 767-27-0204, Revision 2, dated August 16, 2011; and Boeing Service Bulletin 767-27-0205, Revision 2, dated August 30, 2011.

We have determined that the replacement specified in Boeing Service Bulletin 767-27A0224, Revision 1, dated December 16, 2011, needs to be done to address the identified unsafe condition instead of the actions proposed in paragraph (f) of the previous NPRM (70 FR 56386, September 27, 2005). We have not retained paragraph (f) of the previous NPRM in this supplemental NPRM. The effectivity of Boeing Service Bulletin 767-27A0224, Revision 1, dated December 16, 2011, includes line numbers 906 through 974, which were not in the service information referenced in paragraph (f) of the previous NPRM.

We have added new paragraph (h) to this supplemental NPRM to propose to require the replacement specified in Boeing Service Bulletin 767-27A0224, Revision 1, dated December 16, 2011, for certain airplanes and, for certain other airplanes, we have added new paragraph (l) in this supplemental NPRM to provide the replacement as an optional action. We have also added new paragraph (m)(2) to this supplemental NPRM to give credit for actions done in accordance with Boeing Alert Service Bulletin 767-27A0224, dated June 23, 2011.

We have also reviewed Boeing Service Bulletin 767-49A0035, Revision 2, dated June 2, 2006. We referred to Boeing Alert Service Bulletin 767-49A0035, Revision 1, dated December 11, 2003, as the appropriate source of service information for accomplishing the actions proposed in paragraph (h) of the previous NPRM (70 FR 56386, September 27, 2005). Revision 2 of this service bulletin advises operators that it is unnecessary to remove the forward intake duct. Revision 2 of this service bulletin also adds notes and removes certain steps to clarify the procedure. We have revised paragraph (i) of this supplemental NPRM (which corresponds to paragraph (h) of the previous NPRM) to refer to Boeing Service Bulletin 767-49A0035, Revision 2, dated June 2, 2006. We have added new paragraph (m)(3) to this supplemental NPRM to give credit for doing the applicable actions in accordance with Boeing Alert Service Bulletin 767-49A0035, Revision 1, dated December 11, 2003.

We have also reviewed Boeing Service Bulletin 767-51A0027, Revision 1, dated October 12, 2006; and Boeing Service Bulletin 767-51A0028, Revision 1, dated October 12, 2006. We referred to Boeing Alert Service Bulletin 767-51A0027, dated December 9, 2004; and Boeing Alert Service Bulletin 767-51A0028, dated December 9, 2004; as the appropriate sources of service information for accomplishing the actions proposed in paragraph (i) of the previous NPRM (70 FR 56386, September 27, 2005). Revision 1 of this service information adds a high frequency eddy current inspection for cracks as an option to a certain dye penetrant inspection, and adds a corrective action for those inspections, i.e., oversizing the hole. Revision 1 of this service information also adds an option to install the gutter as a one-piece assembly. We have revised paragraph (j) of this supplemental NPRM (which corresponds to paragraph (i) of the previous NPRM) to refer to Boeing Service Bulletin 767-51A0027, Revision 1, dated October 12, 2006; and to Boeing Service Bulletin 767-51A0028, Revision 1, dated October 12, 2006. We have added new paragraph (m)(4) to this supplemental NPRM to give credit for doing actions in accordance with Boeing Alert Service Bulletin 767-51A0027, dated December 9, 2004; and Boeing Alert Service Bulletin 767-51A0028, dated December 9, 2004.

Comments

We gave the public the opportunity to comment on the previous NPRM (70 FR 56386, September 27, 2005). The following presents the comments received on the previous NPRM and the FAA's response to each comment.

Request To Withdraw the Previous NPRM (70 FR 56386, September 27, 2005)

Airlines for America, on behalf of its member Delta Airlines (Delta), requested we withdraw the previous NPRM (70 FR 56386, September 27, 2005). Delta stated that “the root causes of the three noted findings were not conclusively identified,” and withdrawal would be justified by the lack of documented blade seal leakage in service. Delta noted that the Boeing 767 fleet has been in operation for over 20 years and has had relatively few instances of stiff controls in the area of the modifications proposed by the previous NPRM. Delta stated that the modifications involve a change in design of the aircraft to divert possible water intrusion, yet the water intrusion was not a concern until the second quarter of 2001. Delta indicated that “it seems unlikely that a poor design that is not age-related would cause concern after so many years of time-tested, safe operations.” Delta stated that a regulatory action to correct a design problem that has not been identified conclusively is unjustified.

We disagree with the commenter's request. The in-service events of Model 767 airplane elevator control restrictions were investigated by The Boeing Company subsequent to the events identified in the previous NPRM (70 FR 56386, September 27, 2005). One of these events included difficulty flaring the airplane and a subsequent hard landing. These conditions made it difficult for the flightcrew to control the pitch of the airplane because elevator control movements were restricted. The investigation included analysis of flight data recorder information and on-airplane testing. Determining the exact location of suspected icing and conclusively identifying a root cause was very difficult on in-service airplanes as the ice formed at high altitudes, and then melted upon landing at an airport. In addition, Boeing identified the most probable locations of the control system freezing, and identified the probable locations of moisture ingress. Boeing released service information as a result of this investigation.

We concur with Boeing's conclusions and the recommendations contained in the service information. We have determined that an unsafe condition exists on the affected airplanes, and is likely to exist or develop on other airplanes of the same type design. Issuance of an AD is the appropriate vehicle to correct an unsafe condition. No change has been made to this supplemental NPRM in this regard.

Request to Extend Compliance Times

Airlines for America, on behalf of its member UPS, requested we extend the compliance time for the replacement specified in paragraph (h) of the previous NPRM (70 FR 56386, September 27, 2005) from 18 to 24 months. UPS stated that it has not accomplished the actions specified in the relevant service information because there have been no findings at UPS, nor have there been any problems related to auxiliary power unit (APU) air intake duct water leakage causing stiff operation of the pitch control system by freezing on the associated linear variable differential transducer (LVDT). UPS stated that continued normal maintenance and flight operations provide an equivalent level of safety.

Airlines for America, on behalf of its member Delta, requested that we extend the compliance time for the modification and installation specified in paragraph (i) of the previous NPRM (70 FR 56386, September 27, 2005) from 60 to 72 months. Delta stated that the proposed compliance time does not fall into a routine maintenance opportunity. Delta noted again that there have been no specific instances of blade seal leakage on an in-service aircraft, and stated that seal leakage has occurred only during a “wet-down” test. Delta also stated that Boeing has not indicated there is a freezing problem attributed to stiff controls from blade seal leakage and that the root cause cannot be identified conclusively. Delta stated this lack of conclusive evidence over 20 years of operational history should be adequate to establish a more amenable compliance time.

We disagree with both requests for extensions of the compliance times. Since issuance of the previous NPRM (70 FR 56386, September 27, 2005), we have received several additional reports of elevator system restrictions likely caused by ice accumulation. The compliance times of 18 months specified in paragraph (i) and 60 months specified in paragraph (j) of this supplemental NPRM (which correspond to paragraphs (h) and (i) of the previous NPRM (70 FR 56386, September 27, 2005)) are based on our review of the manufacturer's recommended compliance times, which are based on airplane-level risk assessment and input from the lead airline. We have determined that these compliance times are appropriate to ensure an acceptable level of safety for the affected fleet. We have not changed this supplemental NPRM in this regard.

Request to Exclude Certain Requirements for Freighter Airplanes

Airlines for America, on behalf of its member UPS, requested that we revise paragraphs (f) and (g) of the previous NPRM (70 FR 56386, September 27, 2005) to exclude airplanes that do not have associated aft galley installations. The commenter stated that aft galleys are not installed on the Model 767-300F (freighter) airplanes in its fleet.

We disagree. We considered excluding freighter airplanes from the specified paragraphs of this supplemental NPRM. Although a leaking aft galley has been determined to potentially cause moisture to collect and freeze on the elevator control cables in this area, other sources of moisture were considered. These other sources include leaking cargo containers, and rain, snow, and ice on cargo containers. In light of these other potential moisture sources, we determined that paragraphs (g) and (h) of this supplemental NPRM are also applicable to freighter airplanes; paragraph (h) of this supplemental NPRM contains the new actions we are proposing instead of the action proposed in paragraph (g) of the previous NPRM (70 FR 56386, September 27, 2005).

Request to Revise Alternative Methods of Compliance (AMOC) Section

Boeing requested we revise the AMOC paragraph (i.e., paragraph (k)) of the previous NPRM (70 FR 56386, September 27, 2005) to include a provision to allow repairs to be approved by a Boeing Company Authorized Representative (AR) who has been authorized by the FAA to make such findings.

We agree and have added new paragraph (n)(3) to this supplemental NPRM accordingly.

Request to Change Service Information Reference

Delta requested we revise paragraph (f) of the previous NPRM (70 FR 56386, September 27, 2005) to refer to Boeing Service Bulletin 767-27A0192, Revision 1, dated March 17, 2005.

We agree that paragraph (f) of the previous NPRM (70 FR 56386, September 27, 2005) included an incorrect reference. However, we have not restated that paragraph in this supplemental NPRM. We have not revised this supplemental NPRM in this regard.

Additional Changes

We have added a new paragraph (d) to this supplemental NPRM to provide the Air Transport Association (ATA) of America subject codes. These codes are added to make this supplemental NPRM parallel with other new AD actions.

We have revised the heading and wording for paragraph (m) of this supplemental NPRM; this change does not affect the intent of that paragraph.

FAA's Determination

We are proposing this supplemental NPRM because we evaluated all the relevant information and determined the unsafe condition described previously is likely to exist or develop in other products of these same type designs. Certain changes described above expand the scope of the original NPRM. As a result, we have determined that it is necessary to reopen the comment period to provide additional opportunity for the public to comment on this supplemental NPRM.

Proposed Requirements of the Supplemental NPRM

This supplemental NPRM would require, depending on airplane configuration, repetitive general visual inspections for dirt, loose particles, and blockage of the flanged tube and drain hole for the E1A and E1B elevator control cable aft pressure seals, and corrective actions if necessary; replacement of the two existing pressure seal assemblies for the left elevator control cables at the aft pressure bulkhead; replacement of the aft air-intake duct assembly with a new or modified aft air-intake duct assembly and installation of a dripshield; and installation of gutters on the horizontal stabilizer center section and modification of the side brace fittings, including a dye penetrant or high frequency eddy current inspection for cracking and damage and corrective actions if necessary.

Differences Between the Proposed AD and the Service Information

Boeing Service Bulletin 767-51A0027, Revision 1, dated October 12, 2006; and Boeing Service Bulletin 767-51A0028, Revision 1, dated October 12, 2006; specify to contact the manufacturer for instructions on how to repair certain conditions, but this proposed AD would require repairing those conditions in one of the following ways:

• In accordance with a method that we approve; or

• Using data that meet the certification basis of the airplane, and that have been approved by the Boeing Commercial Airplanes ODA whom we have authorized to make those findings.

Step 8 in Figures 6 and 10 of Boeing Service Bulletin 767-51A0027, Revision 1, dated October 12, 2006; and Boeing Service Bulletin 767-51A0028, Revision 1, dated October 12, 2006; specifies hydraulic hose, part number AS115-08D0274; this supplemental NPRM specifies the correct part number, AS115-08D0280.

For steps 4, 8, and 12 in Figures 6 and 10 of Boeing Service Bulletin 767-51A0027, Revision 1, dated October 12, 2006; and Boeing Service Bulletin 767-51A0028, Revision 1, dated October 12, 2006: This supplemental NPRM allows hydraulic hose, part number AS115-08K0280, as an option to part number AS115-08D0280.

For steps 2, 6, and 10 in Figures 6 and 10 of Boeing Service Bulletin 767-51A0027, Revision 1, dated October 12, 2006; and Boeing Service Bulletin 767-51A0028, Revision 1, dated October 12, 2006: This supplemental NPRM allows hydraulic hose, part number AS115-06K0274, as an option to part number AS115-06D0274.

Steps 3.B.16 and 3.B.17 of Boeing Service Bulletin 767-51A0027, Revision 1, dated October 12, 2006; and Boeing Service Bulletin 767-51A0028, Revision 1, dated October 12, 2006; specify to do a check of the elevator power control actuator and a systems test of the autopilot system. Those actions would not be required by this supplemental NPRM because those systems are not disturbed during gutter installation.

Where Note (d) of Figure 8 of Boeing Service Bulletin 767-51A0027, Revision 1, dated October 12, 2006; and Boeing Service Bulletin 767-51A0028, Revision 1, dated October 12, 2006; specifies to “install collars on the upper surface of the gutter,” this supplemental NPRM would require that operators install these bolts with the bolt heads either up or down provided that the bolt head direction prevents interference between the collars and the hydraulic lines.

Step 1 of Figure 4 of Boeing Service Bulletin 767-49A0035, Revision 2, dated June 2, 2006, specifies to install the forward air-intake duct. This action is not included in this supplemental NPRM because it is not necessary for operators to remove the forward air-intake duct.

Costs of Compliance

We estimate that this proposed AD affects about 400 airplanes of U.S. registry.

We estimate the following costs to comply with this proposed AD:

Estimated Costs
Action | Labor cost | Parts cost | Cost per product | Cost on U.S. operators
Inspection of the flanged tube and drain hole (300 airplanes) | 2 work-hours × $85 per hour = $170 per inspection cycle | $0 | $170 per inspection cycle | $51,000 per inspection cycle.
Pressure seal replacement (300 airplanes) | 7 work-hours × $85 per hour = $595 | 261 | 856 | 256,800
Aft air-intake duct assembly replacement and dripshield installation (358 airplanes) | 3 work-hours × $85 per hour = $255 | 1,462 | 1,717 | 614,686
Horizontal stabilizer gutter installation and modification of the side brace fittings (354 airplanes) | 12 work-hours × $85 per hour = $1,020 | 1,902 | 2,922 | 1,034,388

We estimate the following costs to do any necessary cleaning that would be required based on the results of the proposed inspection. We have no way of determining the number of aircraft that might need this cleaning.

On-condition Costs
Action | Labor cost | Parts cost | Cost per product
Cleaning | 1 work-hour × $85 per hour = $85 | $0 | $85

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2005-22523; Directorate Identifier 2005-NM-058-AD.

(a) Comments Due Date

We must receive comments by September 24, 2012.

(b) Affected ADs

None.

(c) Applicability

This AD applies to The Boeing Company Model 767-200, -300, -300F, and -400ER series airplanes, certificated in any category; as identified in the service information specified in paragraphs (c)(1), (c)(2), (c)(3), (c)(4), (c)(5), and (c)(6) of this AD.

(1) Boeing Service Bulletin 767-27A0224, Revision 1, dated December 16, 2011.

(2) Boeing Service Bulletin 767-49A0035, Revision 2, dated June 2, 2006.

(3) Boeing Service Bulletin 767-27-0204, Revision 2, dated August 16, 2011.

(4) Boeing Service Bulletin 767-27-0205, Revision 2, dated August 30, 2011.

(5) Boeing Service Bulletin 767-51A0027, Revision 1, dated October 12, 2006.

(6) Boeing Service Bulletin 767-51A0028, Revision 1, dated October 12, 2006.

(d) Subject

Joint Aircraft System Component (JASC)/Air Transport Association (ATA) of America Code 27, Flight controls; 49, Airborne auxiliary power; 51, Standard practices/structures.

(e) Unsafe Condition

This AD was prompted by reports of stiff operation of the elevator pitch control system and jammed elevator controls. We are issuing this AD to prevent moisture from collecting and freezing on the elevator control system components, which could limit the ability of the flightcrew to make elevator control inputs and result in reduced controllability of the airplane.

(f) Compliance

Comply with this AD within the compliance times specified, unless already done.

(g) Inspections and Corrective Actions

For airplanes identified in Boeing Service Bulletin 767-27-0204, Revision 2, dated August 16, 2011; and Boeing Service Bulletin 767-27-0205, Revision 2, dated August 30, 2011: At the applicable time specified in paragraph (g)(1) or (g)(2) of this AD, do a general visual inspection for dirt, loose particles, and blockage of the flanged tube and drain hole for the E1A and E1B elevator control cable aft pressure seals, and all applicable corrective actions, in accordance with the Accomplishment Instructions of Boeing Service Bulletin 767-27-0204, Revision 2, dated August 16, 2011 (for Model 767-200, -300, and -300F series airplanes); or Boeing Service Bulletin 767-27-0205, Revision 2, dated August 30, 2011 (for Model 767-400ER series airplanes). Do all applicable corrective actions before further flight. Repeat the inspection thereafter at intervals not to exceed 24 months.

(1) For airplanes on which Boeing Service Bulletin 767-27A0219 has been done as of the effective date of this AD: Do the inspection at the time specified in paragraph (g)(1)(i) or (g)(1)(ii) of this AD, whichever occurs later.

(i) Within 24 months after doing the actions specified in Boeing Service Bulletin 767-27A0219.

(ii) Within 6 months after the effective date of this AD.

(2) For airplanes on which Boeing Service Bulletin 767-27A0219 has not been done as of the effective date of this AD: Do the inspection at the time specified in paragraph (g)(2)(i) or (g)(2)(ii) of this AD, whichever occurs later.

(i) Within 24 months after the effective date of this AD.

(ii) Within 24 months since the date of issuance of the original airworthiness certificate or the date of issuance of the original export certificate of airworthiness.

(h) Replacement—Pressure Seal Assemblies

For Group 1, Configuration 1-2 airplanes; Group 2, Configuration 1 airplanes; and Group 4, Configuration 1-2 airplanes; as identified in Boeing Service Bulletin 767-27A0224, Revision 1, dated December 16, 2011: Within 24 months after the effective date of this AD, replace the two existing pressure seal assemblies for the left elevator control cables at the aft pressure bulkhead, in accordance with the Accomplishment Instructions of Boeing Service Bulletin 767-27A0224, Revision 1, dated December 16, 2011. Accomplishing this replacement terminates the inspections required by paragraph (g) of this AD.

(i) Replacement—Air-Intake Duct Assembly and Installation—Dripshield

For airplanes identified in Boeing Service Bulletin 767-49A0035, Revision 2, dated June 2, 2006: Within 18 months after the effective date of this AD, replace the aft air-intake duct assembly with a new or modified aft air-intake duct assembly and install a dripshield, in accordance with the Accomplishment Instructions of Boeing Service Bulletin 767-49A0035, Revision 2, dated June 2, 2006, except as provided by paragraph (k)(1) of this AD.

(j) Gutter Installation and Side Brace Modification

For airplanes identified in Boeing Service Bulletin 767-51A0027, Revision 1, dated October 12, 2006; and Boeing Service Bulletin 767-51A0028, Revision 1, dated October 12, 2006: Within 60 months after the effective date of this AD, install gutters on the horizontal stabilizer center section, and modify the side brace fittings, including doing a dye penetrant or high frequency eddy current inspection for cracking and damage of the drain hole and all applicable corrective actions, in accordance with the Accomplishment Instructions of Boeing Service Bulletin 767-51A0027, Revision 1, dated October 12, 2006 (for Model 767-200, -300, and -300F series airplanes); or Boeing Service Bulletin 767-51A0028, Revision 1, dated October 12, 2006 (for Model 767-400ER series airplanes); except as provided by paragraphs (k)(2), (k)(3), (k)(4), (k)(5), (k)(6), and (k)(7) of this AD.

(k) Exceptions to Service Information

(1) Where Step 1 of Figure 4 of Boeing Service Bulletin 767-49A0035, Revision 2, dated June 2, 2006, specifies installing the forward air-intake duct, that installation is not required by this AD.

(2) Where Boeing Service Bulletin 767-51A0027, Revision 1, dated October 12, 2006; and Boeing Service Bulletin 767-51A0028, Revision 1, dated October 12, 2006; specify to contact Boeing for appropriate action: Before further flight, repair using a method approved in accordance with the procedures specified in paragraph (n) of this AD.

(3) Where step 8 in Figures 6 and 10 of Boeing Service Bulletin 767-51A0027, Revision 1, dated October 12, 2006; and Boeing Service Bulletin 767-51A0028, Revision 1, dated October 12, 2006; specify hydraulic hose, part number AS115-08D0274, the correct part number is AS115-08D0280.

(4) For steps 4, 8, and 12 in Figures 6 and 10 of Boeing Service Bulletin 767-51A0027, Revision 1, dated October 12, 2006; and Boeing Service Bulletin 767-51A0028, Revision 1, dated October 12, 2006: Hydraulic hose, part number AS115-08K0280, is an option to part number AS115-08D0280.

(5) For steps 2, 6, and 10 in Figures 6 and 10 of Boeing Service Bulletin 767-51A0027, Revision 1, dated October 12, 2006; and Boeing Service Bulletin 767-51A0028, Revision 1, dated October 12, 2006: Hydraulic hose, part number AS115-06K0274, is an option to part number AS115-06D0274.

(6) Steps 3.B.16 and 3.B.17 of Boeing Service Bulletin 767-51A0027, Revision 1, dated October 12, 2006; and Boeing Service Bulletin 767-51A0028, Revision 1, dated October 12, 2006; are not required by this AD.

(7) Where Note (d) of Figure 8 of Boeing Service Bulletin 767-51A0027, Revision 1, dated October 12, 2006; and Boeing Service Bulletin 767-51A0028, Revision 1, dated October 12, 2006; specifies to “install collars on the upper surface of the gutter,” this AD requires that operators install these bolts with the bolt heads either up or down provided that the bolt head direction prevents interference between the collars and the hydraulic lines.

(l) Optional Replacement—Pressure Seal Assemblies

For Group 1, Configuration 3-4 airplanes; Group 2, Configuration 2-3 airplanes; Group 3 airplanes; and Group 4, Configuration 3-4 airplanes; as identified in Boeing Service Bulletin 767-27A0224, Revision 1, dated December 16, 2011: Replacing the two existing pressure seal assemblies for the left elevator control cables at the aft pressure bulkhead, in accordance with the Accomplishment Instructions of Boeing Service Bulletin 767-27A0224, Revision 1, dated December 16, 2011, terminates the inspections required by paragraph (g) of this AD.

(m) Credit for Previous Actions

(1) This paragraph provides credit for the actions required by paragraph (g) of this AD, if the actions were performed before the effective date of this AD using the applicable service information in paragraph (m)(1)(i) or (m)(1)(ii) of this AD.

(i) For Model 767-200, -300, and -300F series airplanes: Boeing Service Bulletin 767-27-0204, dated January 27, 2005; or Boeing Service Bulletin 767-27-0204, Revision 1, dated February 12, 2009.

(ii) For Model 767-400ER series airplanes: Boeing Service Bulletin 767-27-0205, dated January 27, 2005; or Boeing Service Bulletin 767-27-0205, Revision 1, dated February 12, 2009.

(2) This paragraph provides credit for the actions required by paragraphs (h) and (l) of this AD, if the actions were performed before the effective date of this AD using Boeing Alert Service Bulletin 767-27A0224, dated June 23, 2011.

(3) This paragraph provides credit for the actions required by paragraph (i) of this AD, if the actions were performed before the effective date of this AD using Boeing Alert Service Bulletin 767-49A0035, Revision 1, dated December 11, 2003.

(4) This paragraph provides credit for the actions required by paragraph (j) of this AD, if the actions were performed before the effective date of this AD using Boeing Alert Service Bulletin 767-51A0027, dated December 9, 2004; or Boeing Alert Service Bulletin 767-51A0028, dated December 9, 2004.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

(o) Related Information

(1) For more information about this AD, contact Kelly McGuckin, Aerospace Engineer, Systems and Equipment Branch, ANM-130S, FAA, Seattle Aircraft Certification Office, 1601 Lind Avenue SW., Renton, WA 98057-3356; phone: (425) 917-6490; fax: (425) 917-6590; email: Kelly.McGuckin@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on July 31, 2012.
Michael Kaszycki,
Acting Manager, Transport Airplane Directorate, Aircraft Certification Service.

[FR Doc. 2012-19532 Filed 8-8-12; 8:45 am]

BILLING CODE 4910-13-P